DEPARTMENT OF ENERGY

Federal Energy Regulatory Commission

Combined Notice of Filings #1

Take notice that the Commission received the following exempt wholesale generator filings:

Docket Numbers: EG12-33-000.

Applicants: Kawailoa Wind, LLC.

Description: Notice of Self-Certification of Exempt Wholesale Generation Status of Kawailoa Wind, LLC.

Filed Date: 2/21/12.

Accession Number: 20120221-5272.

Comments Due: 5 p.m. ET 3/13/12.

Take notice that the Commission received the following electric rate filings:

Docket Numbers: ER11-3445-002.

Applicants: PJM Interconnection, L.L.C.

Description: Compliance Filing in Docket Nos. ER11-12-001 and ER11-3445-000 to be effective 6/1/2012.

Filed Date: 2/21/12.

Accession Number: 20120221-5241.

Comments Due: 5 p.m. ET 3/13/12.

Docket Numbers: ER12-1129-000.

Applicants: MidAmerican Energy Company.

Description: Upper Rock Energy QF Contract to be effective 2/20/2012.

Filed Date: 2/21/12.

Accession Number: 20120221-5213.

Comments Due: 5 p.m. ET 3/13/12.

Docket Numbers: ER12-1130-000.

Applicants: PJM Interconnection, L.L.C.

Description: RTEP Clean Up Filing to be effective 2/16/2012.

Filed Date: 2/21/12.

Accession Number: 20120221-5239.

Comments Due: 5 p.m. ET 3/13/12.

Docket Numbers: ER12-1131-000.

Applicants: Parkview AMC Energy, LLC.

Description: Tariff Filing V 1.0.0 to be effective 2/3/2012.

Filed Date: 2/21/12.

Accession Number: 20120221-5240.

Comments Due: 5 p.m. ET 3/13/12.

Docket Numbers: ER12-1132-000.

Applicants: PJM Interconnection, L.L.C.

Description: PJM Original Service Agreement No. 3238—Queue Position W2-078 to be effective 1/20/2012.

Filed Date: 2/21/12.

Accession Number: 20120221-5245.

Comments Due: 5 p.m. ET 3/13/12.

Docket Numbers: ER12-1133-000.

Applicants: NorthWestern Corporation.

Description: Service Agreement No. 621—Central Montana Coop to be effective 2/22/2012.

Filed Date: 2/21/12.

Accession Number: 20120221-5275.

Comments Due: 5 p.m. ET 3/13/12.

Docket Numbers: ER12-1134-000.

Applicants: East Coast Power and Gas, LLC.

Description: East Coast Power & Gas Baseline Filing to be effective 2/21/2012.

Filed Date: 2/21/12.

Accession Number: 20120221-5286.

Comments Due: 5 p.m. ET 3/13/12.

Docket Numbers: ER12-1135-000.

Applicants: Terra-Gen Dixie Valley, LLC.

Description: Compliance Filing to Bring Approved Schedule 7 into eTariff to be effective 1/23/2012.

Filed Date: 2/21/12.

Accession Number: 20120221-5287.

Comments Due: 5 p.m. ET 3/13/12.

Docket Numbers: ER12-1136-000.

Applicants: Pacific Gas and Electric Company.

Description: CCSF IA—2012 Annual Adjustment to Traffic Light Costs to be effective 2/1/2012.

Filed Date: 2/22/12.

Accession Number: 20120222-5000.

Comments Due: 5 p.m. ET 3/14/12.

Docket Numbers: ER12-1137-000.

Applicants: Entra Energy LLC.

Description: Baseline New to be effective 2/22/2012.

Filed Date: 2/22/12.

Accession Number: 20120222-5003.

Comments Due: 5 p.m. ET 3/14/12.

Docket Numbers: ER12-1138-000.

Applicants: Public Service Company of Colorado.

Description: 2012-2-22_PSC-WAPA-Bijou SS BA Mtr 322 to be effective 1/27/2012.

Filed Date: 2/22/12.

Accession Number: 20120222-5071.

Comments Due: 5 p.m. ET 3/14/12.

Docket Numbers: ER12-1139-000.

Applicants: Southern California Edison Company.

Description: Southern California Edison Company Notice of Cancellation of Letter Agreement with Granite Wind SA 62.

Filed Date: 2/22/12.

Accession Number: 20120222-5079.

Comments Due: 5 p.m. ET 3/14/12.

Docket Numbers: ER12-1140-000.

Applicants: PacifiCorp.

Description: BPA Cooperative Communications Agreement 3rd Revised to be effective 12/2/2010.

Filed Date: 2/22/12.

Accession Number: 20120222-5080.

Comments Due: 5 p.m. ET 3/14/12.

Docket Numbers: ER12-1141-000.

Applicants: El Paso Electric Company.

Description: Mesquite Solar Amended and Restated IA to be effective 4/22/2012.

Filed Date: 2/22/12.

Accession Number: 20120222-5097.

Comments Due: 5 p.m. ET 3/14/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2012.
Nathaniel J. Davis, Sr.,
Deputy Secretary.

[FR Doc. 2012-4874 Filed 2-29-12; 8:45 am]

BILLING CODE 6717-01-P